DEPARTMENT OF COMMERCE

Foreign-Trade Zones Board

[Order No. 2025]

Foreign-Trade Zone 168; Application Requesting Expansion/Reorganization; Dallas/Fort Worth, Texas Area

Pursuant to its authority under the Foreign-Trade Zones Act of June 18, 1934, as amended (19 U.S.C. 81a-81u), the Foreign-Trade Zones Board (the Board) adopts the following Order:

Whereas, the Metroplex International Trade Development Corporation, grantee of Foreign-Trade Zone 168, submitted an application to the Board for authority to reorganize/expand FTZ 168 to include proposed Site 9 in Coppell, Texas and to remove 101 acres from existing Site 8 in Gainesville, Texas, adjacent to the Dallas/Fort Worth Customs and Border Protection port of entry (B-52-2013, docketed May 23, 2013);

Whereas, notice inviting public comment has been given in the Federal Register (78 FR 32238-32239, May 29, 2013) and the application has been processed pursuant to the FTZ Act and the Board's regulations; and,

Whereas, the Board adopts the findings and recommendations of the examiners' report, and finds that the requirements of the FTZ Act and the Board's regulations would be satisfied with regard to the proposed removal of acreage at Site 8 and to the designation of a subzone for the use of Samsung Electronics America, Inc. (SEA) within proposed Site 9 (but not with regard to the approval of FTZ designation for the remaining portion(s) of proposed Site 9) upon submission by the applicant of documentary evidence of having reestablished its corporate existence and a definitive map(s) and acreage figure for the portion(s) of proposed Site 9 to be designated as the subzone for the use of SEA;

Now, therefore, the Board hereby orders:

The Board's Executive Secretary is authorized to finalize designation of a subzone for the use of SEA and the requested removal of acreage from Site 8 upon the applicant's submission to the Executive Secretary of documentary evidence of the applicant's having reestablished its corporate existence and a definitive map(s) and acreage figure for the portion(s) of proposed Site 9 to be designated as the subzone for the use of SEA. This action is subject to the FTZ Act and the Board's regulations, including Section 400.13.

Signed at Washington, DC, this 12th day of January 2017.
Paul Piquado,
Assistant Secretary of Commerce for Enforcement and Compliance, Alternate Chairman, Foreign-Trade Zones Board.

[FR Doc. 2017-01219 Filed 1-18-17; 8:45 am]

BILLING CODE 3510-DS-P